DEPARTMENT OF TRANSPORTATION

Federal Highway Administration

Record of Decision: Washington County, UT

AGENCY: Federal Highway Administration (FHWA), DOT.

ACTION: Notice of Availability of the Record of Decision following a Final Environmental Impact Statement for transportation improvements in Washington County, Utah.

SUMMARY: The FHWA is issuing this notice to advise the public that a Record of Decision (ROD) has been made following a Final Environmental Impact Statement prepared for the Southern Corridor project within Washington County, Utah. The ROD approves a location proposed for transportation improvements for the Southern Corridor project Washington County, Utah. The Southern Corridor Study Area includes an area in southern Washington County south and southeast of Interstate 15 (I-15) and State Route 9 (SR 9) including the cities of St. George, Washington, and Hurricane. The Selected Alternative (2800 West Alternative) includes a new interchange with I-15 at Reference Post 2 (Atkinville) and a new four-lane highway extending 26 miles to the intersection of 2800 West with SR 9. Selection of the Preferred Alternative was based on the best overall public interest to provide a safe and efficient transportation system and the social, economic, and environmental impacts. In addition, the project team considered public and resource agency input and city council recommendations or resolutions regarding the project.

This project requires Federal approval of a proposed new Interstate access and Federal Highway Administration funding as authorized by Title 23 of the United States Code. Consequently, pursuant to the National Environmental Policy Act (NEPA) (42 U.S.C. 4321 et seq.), the Federal Highway Administration (FHWA) in coordination with the Utah Department of Transportation (UDOT), prepared an Environmental Impact Statement (EIS) for the project's impact on the human environment. The Final EIS (FEIS) was issued on April 22, 2005.

Pursuant to Section 6002 of the Safe, Accountable, Flexible, Efficient Transportation Equity Act: A Legacy for Users [23 U.S.C. 139(l)] any person or entity wishing to file a claim for judicial review challenging this decision must do so within 180 days of the publication of this notice.

FOR FURTHER INFORMATION CONTACT: Gregory S. Punske, P.E., Environmental Program Manager, Federal Highway Administration, 2520 West 4700 South, Suite 9A, Salt Lake City, Utah 84118, Telephone (801) 963-0182; or Tamerha Maxwell, Project Manager, Utah Department of Transportation, Cedar District, 1470 North Airport Road, Cedar City, UT 84721-1009, Telephone: (435) 865-5511. The FEIS is available for review at the addresses mentioned above and can be viewed and downloaded from the project Web site http://www.udot.utah.gov/sc/ or viewed at public libraries in the project area. A copy of the ROD is available upon written request from the Federal Highway Administration at the address shown above.

Comments or questions concerning this proposed action and the ROD should be directed to the FHWA at the address provided above.

[Catalog of Federal Domestic Assistance Program Number 20.205, Highway Research, Planning and Construction. The regulations impending Executive Order 12372 regarding intergovernmental consultation on Federal programs and activities apply to this program.]

Issued on October 18, 2005.
Gregory S. Punske,
Environmental Program Manager, Salt Lake City, Utah.

[FR Doc. 05-21178 Filed 10-21-05; 8:45 am]

BILLING CODE 4910-22-M